DEPARTMENT OF AGRICULTURE

Forest Service

Forest Counties Payments Committee

AGENCY: Forest Service, USDA.

ACTION: Notice of meeting.

SUMMARY: The Forest Counties Payments Committee has scheduled a meeting on December 11, 2001, to discuss how it will provide Congress with the information specified in section 320 of the Fiscal Year 2001 Interior and Related Agencies Appropriations Act. In order to develop its recommendations to Congress, the Committee would like to hear from both elected officials and the general public. The meeting will consist of a public input session from 9 a.m. until 12 noon.

DATES: The meeting will be held on December 11, 2001.

ADDRESSES: The meeting will be held at the Farm Bureau Building, 6310 I55 North, Jackson, Mississippi 39236.

Those who cannot be present may submit written responses to the questions listed under SUPPLEMENTARY INFORMATION in this notice to Randle G. Phillips, Executive Director, Forest Counties Payments Committee, P.O. Box 34718, Washington, D.C. 20043-4713, (202) 208-6574 or electronically to rphillips01@fs.fed.us.

FOR FURTHER INFORMATION CONTACT: Randle G. Phillips, Executive Director, Forest Counties Payments Committee, (202) 208-6574; or via e-mail at rphillips01@fs.fed.us.

SUPPLEMENTARY INFORMATION: Section 320 of the 2001 Interior and Related Agencies Appropriations Act (Pub L. 106-389) authorizes the payments to States and counties from monies derived from receipts collected on Federal lands. These payments are to be used for the benefit of public education and other public purposes. The Act also created a Forest Counties Payments Committee to gather input from the public and elected officials to help develop recommendations to Congress on a long-term solution for making payments to eligible States and counties in which Federal lands are situated. The Committee will evaluate the methods and use of these payments. The Committee will also consider the impact on eligible States and counties of revenues from the historic multiple use of Federal lands; evaluate the economic, environmental, and social benefits which accrue to counties containing Federal lands; evaluate the expenditures by counties on activities occurring on Federal lands which are Federal responsibilities; and monitor payments and implementation of the Act.

At the December 11 meeting in Jackson, the Committee asks that respondents provide information that is responsive to the following questions:

1. Do counties receive their fair share of federal revenue-sharing payments made to eligible States?

2. What difficulties exist in complying with, and managing all of the federal revenue-sharing payments programs? Are some more difficult than others?

3. What economic, social, and environmental costs do counties incur as a result of the presence of public lands within their boundaries?

4. What economic, social, and environmental benefits do counties realize as a result of public lands within their boundaries?

5. What are the economic and social effects from changes in revenues generated from public lands over the past 15 years, as a result of changes in management on public lands in your State or county?

6. What actions has your State or county taken to mitigate any impacts associated with declining economic conditions, or revenue-sharing payments?

7. What effects, both positive and negative, have taken place with education and highway programs that are attributable to the management of public lands within your State or county?

8. What relationship, if any, should exist between federal revenue-sharing programs, and management activities on public lands?

9. What alternatives exist to provide equitable revenue-sharing to States and counties and promote “sustainable forestry”?

10. What has been your experience regarding implementation of Pub L. 106-291, The Secure Rural Schools and Community Self-Determination Act?

Dated: November 19, 2001.
Timothy DeCoster,
Acting Deputy Chief, Programs and Legislation.

[FR Doc. 01-29363 Filed 11-23-01; 8:45 am]

BILLING CODE 3410-11-P